DEPARTMENT OF AGRICULTURE

Agricultural Marketing Service

[Doc. No. AMS-FV-14-0004; FV14-944-1]

Specified Commodities Imported into the United States, Exempt from Import Regulations; Request for Extension of a Currently Approved Information Collection

AGENCY: Agricultural Marketing Service, USDA.

ACTION: Request for comments.

SUMMARY: In accordance with the Paperwork Reduction Act of 1995 (44 U.S.C. 3501), this document announces the Agricultural Marketing Service's (AMS) intention to request an extension and revision to currently approved forms utilized by importers of commodities that are exempt from section 8e import regulations.

DATES: Comments on this notice must be received by May 30, 2014 to be considered.

Additional Information: Contact Andrew Hatch, Supervisory Marketing Specialist, Marketing Order and Agreement Division, Fruit and Vegetable Program, AMS, USDA, 1400 Independence Avenue SW., Stop 0237, Room 1406-S, Washington, DC 20250-0237; Tel: (202) 720-2491; Email: andrew.hatch@ams.usda.gov.

Small businesses may request information on this notice by contacting Jeffrey Smutny, Marketing Order and Agreement Division, Fruit and Vegetable Program, AMS, USDA, 1400 Independence Avenue SW., Stop 0237, Room 1406-S, Washington, DC 20250-0237; Tel: (202) 690-3919; or Email: jeffrey.smutny@ams.usda.gov.

Comments: Comments should reference the docket number and the date and page number of this issue of the Federal Register, and be mailed to the Docket Clerk, Fruit and Vegetable Program, AMS, USDA, 1400 Independence Avenue SW, Room 1406-S, Washington, DC 20250-0237; Fax: (202) 720-8938; or submitted through the Internet at http://www.regulations.gov.

All comments to this notice will be summarized and included in the request for OMB approval, and will become a matter of public record.

SUPPLEMENTARY INFORMATION: Title: Specified Commodities Imported Into the United States Exempt from Import Requirements.

OMB Number: 0581-0167.

Expiration Date of Approval: September 30, 2014.

Type of Request: Extension and Revision of a currently approved information collection.

Abstract: Section 8e of the Agricultural Marketing Agreement Act of 1937 as amended (7 U.S.C. 601-674; Act) requires that whenever the Secretary of Agriculture issues grade, size, quality, or maturity regulations under domestic marketing orders, the same or comparable regulations must be issued for imported commodities. Import regulations apply only during those periods when domestic marketing order regulations are in effect.

Currently, the following commodities are subject to section 8e import regulations: Avocados; grapefruit; kiwifruit; olives (other than Spanish-style); oranges; table grapes; Irish potatoes; onions; tomatoes; dates (other than dates for processing); walnuts; raisins; pistachios; and hazelnuts (filberts). Imports of these commodities are exempt from section 8e requirements if they are imported for such outlets as processing, charity, animal feed, seed, and distribution to relief agencies when those outlets are exempt under the applicable marketing orders.

Safeguard procedures in the form of importer and receiver reporting requirements are used to ensure that the imported commodities are, in fact, shipped to authorized, exempt outlets. Reports required under the safeguard procedure are similar to the reports currently required by most domestic marketing orders, and are required of importers and receivers under the following import regulations: (1) Fruits; import regulations (7 CFR 944.350); (2) vegetables; import regulations (7 CFR 980.501); and (3) specialty crops; import regulations (7 CFR 999.500).

Under these regulations, importers wishing to import commodities for exempt purposes must complete form FV-6, the “Importer's Exempt Commodity Form,” prior to importation, through the Marketing Order Online System (MOLS). Launched in August 2008, MOLS is an internet-based application, managed by the USDA, which allows importers and receivers of fruit, vegetable, and specialty crops to review and search for FV-6 certificates online. If an importer correctly inputs his shipment data into MOLS, he will receive and be able to print a certificate that accompanies the shipment. Data are simultaneously transmitted to the receiver and to AMS, where they are reviewed for compliance purposes by Marketing Order and Agreement Division (MOAD) staff, in the USDA's Fruit and Vegetable Program.

In rare instances a paper form FV-6 may be used. The hardcopy form has four parts, which are distributed as follows: Copy one is presented to the U.S. Customs and Border Protection, Department of Homeland Security; copy two is filed with MOAD within two days of the commodity entering the United States; copy three accompanies the exempt shipment to its intended destination, where the receiver certifies its receipt and that it will be used for exempt purposes, and files that copy with MOAD within two days of receipt; and copy four is retained by the importer.

In addition to renewing the FV-6 form, this information collection package does the same for the FV-7 form, “Civil Penalty Stipulation Agreement.” Produce importers sign the FV-7 form, for which there is no burden associated because only a signature is required.

The information collected through this package is used primarily by authorized representatives of the USDA, including AMS Fruit and Vegetable Program regional and headquarters staff.

Estimate of Burden: The public reporting burden for this collection of information is estimated to average 5 minutes per response.

Respondents: Importers and receivers of exempt commodities.

Estimated Number of Respondents: 144

Estimated Number of Total Annual Responses: 213,691

Estimated Number of Responses per Respondent: 1,484

Estimated Total Annual Burden on Respondents: 17,734 hours

Comments are invited on: (1) Whether the proposed collection of information is necessary for the proper performance of the functions of the Agency, including whether the information will have practical utility; (2) the accuracy of the Agency's estimate of the burden of the proposed collection of information, including the validity of the methodology and assumptions used; (3) ways to enhance the quality, utility and clarity of the information to be collected; and (4) ways to minimize the burden of the collection of information on those who are to respond, including through the use of appropriate automated, electronic, mechanical, or other technological collection techniques or other forms of information technology.

All comments to this document will be summarized and included in the request for OMB approval, and will become a matter of public record.

Dated: March 12, 2014.
Rex A. Barnes,
Associate Administrator, Agricultural Marketing Service.

[FR Doc. 2014-07011 Filed 3-28-14; 8:45 am]

BILLING CODE P